DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of additional persons whose property and interests in property have been blocked pursuant to the Foreign Narcotics Kingpin Designation Act (21 U.S.C. 1901-1908, 8 U.S.C. 1182). In addition, OFAC is publishing a change to the listing of one individual previously designated pursuant to the Foreign Narcotics Kingpin Designation Act.

DATES: The designation by the Secretary of the Treasury of the nine individuals and thirteen entities identified in this notice pursuant to section 805(b) of the Kingpin Act is effective on November 27, 2007. In addition, the change to the listing of one individual previously designated pursuant to section 804(b) of the Kingpin Act is effective on November 27, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Foreign Narcotics Kingpin Designation Act (“Kingpin Act”) became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 27, 2007, OFAC designated nine additional individuals and thirteen additional entities whose property and interests in property are blocked pursuant to section 805(b) of the Foreign Narcotics Kingpin Designation Act.

The list of additional designees follows:

Individuals:

1. AZAM, Amir (a.k.a. SHEIKH MOHAMMED, Amir Azam); c/o A A TRADING FZCO, Dubai, United Arab Emirates; Dubai, United Arab Emirates; DOB 02 Nov 1971; POB Chiswick, England; Citizen United Arab Emirates; Passport 039856039 (United Kingdom); (INDIVIDUAL) [SDNTK].

2. BEHZAD, Ahmad Abdulla Mohammad Abdulla (a.k.a. BEHZAD BSTAKI, Ahmad Abdullah Mohammed Abdullah; a.k.a. BEHZAD, Ahmad Abdulla Mohammad Abdulla; a.k.a. “Ahmed Mohammed Abdullah”; a.k.a. BAHZAD, Ahmad Abdullah Mohamed Abdullah; a.k.a. “Abdullah Mohammed Abdullah BAHZAD”; a.k.a. “Mohammed Abdullah Mohammed BAHZAD”; a.k.a. “Ahmed BEHZA”; a.k.a. BEHZAD, Ahmad Abdulla Mohd Abdulla; a.k.a. BEHZAD, Ahmed Abdullah; a.k.a. BEHZAD, Ahmad Abdulla Mohammad A; a.k.a. BEHZAD, Abdulla Mohd Abdulla; a.k.a. “Abdulla Mohamad Abdulla Mohamad BEHZAD”; a.k.a. “Abdullah Ahmad Abdullah Mohamad BAHZAD”); c/o SHAHBAZ KHAN GENERAL TRADING LLC, Dubai, United Arab Emirates; c/o FMF GENERAL TRADING LLC, Dubai, United Arab Emirates; Dubai, United Arab Emirates; Sharjah, United Arab Emirates; DOB 02 Nov 1971; POB Dubai, United Arab Emirates; Citizen United Arab Emirates; Passport A1042768 (United Arab Emirates); Passport A0269124 (United Arab Emirates); (INDIVIDUAL) [SDNTK].

3. LOAN, Waseem Rauf (a.k.a. LOUN, Waseem Rouf; a.k.a. LOUN, Waseem Raouf; a.k.a. RASHID, Abdul Majid; a.k.a. RASHI, Abdul Majid; a.k.a. BUTT, Abdul Majid; a.k.a. LOAN, Waseem Raouf; a.k.a. LOUN, Waseem Rauf; a.k.a. LON RAOUF, Wasim Raouf); c/o AL AMLOOD TRADING LLC, Dubai, United Arab Emirates; c/o FMF GENERAL TRADING LLC, Dubai, United Arab Emirates; Pakistan; DOB 03 Mar 1966; POB Lahore, Pakistan; Citizen Pakistan; Passport AA8908881 (Pakistan); Identification Number 35200-5407888-5 (Pakistan); (INDIVIDUAL) [SDNTK].

4. GHANI, Mohammad Nadeem (GHANI, Mohamed Nadim); c/o ZULEKHA GENERAL TRADING LLC, Ajman, United Arab Emirates; United Kingdom; Citizen United Kingdom; Passport 093055372 (United Kingdom); (INDIVIDUAL) [SDNTK].

5. SCHNEIDER, Simon, c/o OFFENBACH HAUSHALTWAREN B.V., Beverwijk, Netherlands; c/o BELS FLOWERS IMPORT EXPORT BVBA, Antwerpen, Belgium; Netherlands; DOB 14 Jul 1967; POB Hoorn, Netherlands; Citizen Netherlands; Passport BA0199589 (Netherlands); (INDIVIDUAL) [SDNTK].

6. MICHIELSEN, Tom (a.k.a. MICHIELSEN, Tom R.D.); Belgium; DOB 22 Dec 1975; POB Kapellen, Belgium; Citizen Belgium; Passport FF615720 (Belgium); Identification Number 1041 002019 56 (Belgium); (INDIVIDUAL) [SDNTK].

7. KHAN, Sherbaz, c/o SHAHBAZ KHAN GENERAL TRADING LLC, Dubai, United Arab Emirates; c/o SHER MATCH INDUSTRIES (PVT.) LIMITED, Peshawar, Pakistan; Peshawar, Pakistan; P.O. Box 33651, Dubai, United Arab Emirates; DOB 03 Apr 1979; POB Khyber Agency, Pakistan; Citizen Pakistan; Passport 137987 (Pakistan); (INDIVIDUAL) [SDNTK].

8. NOOR MUHAMMAD, Abdul Majeed (a.k.a. NOOR MUHAMMED, Abdul Majid; a.k.a. NOOR MOHAMMAD, Abdul Majid); c/o FMF GENERAL TRADING LLC, Dubai, United Arab Emirates; DOB 1957; POB Chagai, Pakistan; Citizen Pakistan; Passport LA097936 (Pakistan); (INDIVIDUAL) [SDNTK].

9. DUZCAN, Ceylan, United Arab Emirates; DOB 01 Mar 1975; POB Savsat, Turkey; Citizen Turkey; Passport 315408 (Turkey); Driver's License No. 11550 (Turkey); (INDIVIDUAL) [SDNTK].

Entities:

1. SHAHBAZ KHAN GENERAL TRADING LLC (a.k.a. AL SHAHBOZ KHAN GENERAL TRADING LLC.); Al Ghas Building, Baniyas Square, Al Rigga Area, Flat No. 106, Dubai, United Arab Emirates; P.O. Box 24241, Dubai, United Arab Emirates; P.O. Box 40754, Dubai, United Arab Emirates; Shop No. 16, Baniyas Centre, Dubai, United Arab Emirates; C.R. No. 52060 (United Arab Emirates); (ENTITY) [SDNTK].

2. SHER MATCH INDUSTRIES (PVT.) LIMITED, Plot Numbers 119-121, Industrial Estate, Jamrud Road, Hayatabad, Peshawar, Pakistan; Shahnawaz Traders Royal Industrial Area, Jamrud Road, Peshawar, Pakistan; C.R. No. P-01876/19981106 (Pakistan); (ENTITY) [SDNTK].

3. SHAHNAWAZ TRADERS, Shop No. 1-2, Block A, Jamrud Road, Royal Market, Peshawar, Pakistan; (ENTITY) [SDNTK].

4. SHAHBAZ TV CENTER, Shop No. 1-2, Block A, Jamrud Road, Royal Market, Peshawar, Pakistan; (ENTITY) [SDNTK].

5. DUBAI TRADING COMPANY, 44-45, Royal Shopping Plaza, Industrial Estate, Hayatabad, Peshawar, Pakistan; 53 Royal Shopping Plaza, Industrial Estate, Hayatabad, Peshawar, Pakistan; (ENTITY) [SDNTK].

6. SAF TECH S.L., Calle Serrano 52, Barcelona 08031, Spain; C.R. No. B62398060 (Spain); (ENTITY) [SDNTK].

7. KHAN & SCHIRINDEL GMBH, Schwalbacher Strasse 19, Weisbaden 65185, Germany; C.R. No. HRB20555 (Germany); (ENTITY) [SDNTK].

8. OFFENBACH HAUSHALTWAREN B.V., Rietlanden 5-A, Beverwijk 1948, Netherlands; Rietlanden 5-7, Beverwijk 1948 NE., Netherlands; C.R. No. 28094396 (Netherlands); (ENTITY) [SDNTK].

9. BELS FLOWERS IMPORT EXPORT BVBA, Lange Lobroekstraat 8, Antwerpen 2060, Belgium; C.R. No. 478351540 (Belgium); (ENTITY) [SDNTK].

10. A A TRADING FZCO, P.O. Box 37089, Dubai, United Arab Emirates; (ENTITY) [SDNTK].

11. ZULEKHA GENERAL TRADING LLC (a.k.a. ZULEIKHA GENERAL TRADING; a.k.a. ZULIKHA GENERAL TRADING); P.O. Box 5456, Ajman, United Arab Emirates; C.R. No. 32035 (United Arab Emirates); (ENTITY) [SDNTK].

12. AL AMLOOD TRADING LLC, Ali Rashid Lootah Building, Al Khaleej Street, Al Baraha Area, Dubai, United Arab Emirates; P.O. Box 3517, Dubai, United Arab Emirates; C.R. No. 79190 (United Arab Emirates); (ENTITY) [SDNTK].

13. FMF GENERAL TRADING LLC, Ahmad Abdulla Bahzad Building, Al Qusais Street, Al Qusais Industrial Area, Dubai, United Arab Emirates; P.O. Box 16542, Dubai, United Arab Emirates; C.R. No. 66488 (United Arab Emirates); (ENTITY) [SDNTK].

In addition, OFAC has made a change to the following listing of one individual previously designated pursuant to the Kingpin Act:

1. KHAN, Shahbaz (a.k.a. KHAN GALAT KHAN, Shahbaz; a.k.a. KHAN ZADRAN, Shahbaz; a.k.a. KOOCHI, Shahbaz; a.k.a. “HAJI SHAHBAZ KOOCHI”; a.k.a. “HAJI SHAHBAZ”; a.k.a. ZADRAN, Shahbaz; a.k.a. “HAJI SHABBAZ”; a.k.a. ZADRAN, Shabbaz; a.k.a. ZADRAN, Haji Shabaz; a.k.a. ZADRAN, Haji Shahbaz; a.k.a. HAN, Cellat; a.k.a. HAN, Sahbaz; a.k.a. KOCHI, Haji Shahbaz Khan; a.k.a. KHAN JALAT KHAN, Shahbaz); Dubai, United Arab Emirates; Peshawar, Pakistan; Hanover, Germany; DOB 01 Jan 1948; POB Landi Kotal, Pakistan; Citizen Pakistan; Passport AB4106401 (Pakistan); (INDIVIDUAL) [SDNTK].

The listings now appear as follows:

1. KHAN, Shahbaz (a.k.a. KHAN GALAT KHAN, Shahbaz; a.k.a. KHAN ZADRAN, Shahbaz; a.k.a. KOOCHI, Shahbaz; a.k.a. “HAJI SHAHBAZ KOOCHI”; a.k.a. “HAJI SHAHBAZ”; a.k.a. ZADRAN, Shahbaz; a.k.a. “HAJI SHABBAZ”; a.k.a. ZADRAN, Shabbaz; a.k.a. ZADRAN, Haji Shabaz; a.k.a. ZADRAN, Haji Shahbaz; a.k.a. HAN, Cellat; a.k.a. HAN, Sahbaz; a.k.a. KOCHI, Haji Shahbaz Khan; a.k.a. KHAN JALAT KHAN, Shahbaz); c/o DUBAI TRADING COMPANY, Peshawar, Pakistan; c/o KHAN & SCHIRINDEL GMBH, Weisbaden, Germany; c/o SAF TECH S.L., Barcelona, Spain; c/o SHAHBAZ KHAN GENERAL TRADING LLC, Dubai, United Arab Emirates; c/o SHAHBAZ TV CENTER, Peshawar, Pakistan; c/o SHAHNAWAZ TRADERS, Peshawar, Pakistan; c/o SHER MATCH INDUSTRIES (PVT.) LIMITED, Peshawar, Pakistan; Dubai, United Arab Emirates; Peshawar, Pakistan; Hanover, Germany; DOB 01 Jan 1948; POB Landi Kotal, Pakistan; Citizen Pakistan; Passport AB4106401 (Pakistan); (INDIVIDUAL) [SDNTK].

Dated: November 27, 2007.
Adam J. Szubin,
Director, Office of Foreign Assets Control.

[FR Doc. 07-5920 Filed 12-4-07; 8:45 am]

BILLING CODE 4811-42-P